DEPARTMENT OF AGRICULTURE

Office of the Secretary

7 CFR Part 2

Revision of Delegations of Authority

AGENCY: Department of Agriculture.

ACTION: Final rule.

SUMMARY: This document amends the delegations of authority from the Secretary of Agriculture to other General Officers and agency heads to delegate to the Director, Hazardous Materials Management Group authority to carry out certain duties related to hazardous materials management.

EFFECTIVE DATE: December 29, 2000.

FOR FURTHER INFORMATION CONTACT: Thomas Fox, Attorney, Office of the General Counsel, United States Department of Agriculture, Room 3351 South Building, Washington, DC 20250, (202) 720-6715.

SUPPLEMENTARY INFORMATION: On January 15, 1999, the Secretary of Agriculture established the USDA Hazardous Materials Policy Council (Council) to direct the USDA Hazardous Materials Management and Federal Facilities Compliance Program (Program). By Memorandum dated April 14, 1999, the Secretary decided to strengthen the Program within the Department by assigning to the Counsel lead responsibility for hazardous materials management and Federal facilities compliance. Also, the Secretary directed that the executive director of the Council serve as the Director of the Hazardous Materials Management Group, the group that acts as technical and program staff to the Council. The decision was based upon the fact that the Department had a decentralized arrangement for the implementation of the program and needed to improve coordination among the agencies of the Department. This final rule delegates responsibilities to the director of the Hazardous Materials Management Group.

This rule relates to internal agency management. Therefore, pursuant to 5 U.S.C. 553, notice of proposed rule making and opportunity for comment are not required.

Further, because this rule relates to internal agency management, it is exempt from the provisions of Executive Order No. 12866 and No. 12988. In addition, this action is not a rule as defined by the Regulatory Flexibility Act (5 U.S.C. 601, et seq.), and thus is exempt from provisions of that act. Finally, this action is not a rule as defined in 5 U.S.C. 804, and thus does not require review by Congress.

List of Subjects in 7 CFR Part 2

Authority delegations (Government agencies).

Accordingly, 7 CFR Part 2 is amended as follows:

PART 2—DELEGATIONS OF AUTHORITY BY THE SECRETARY OF AGRICULTURE AND GENERAL OFFICERS OF THE DEPARTMENT

1. The authority citation for Part 2 is revised to read as follows:

Authority: 5 U.S.C. 301; Reorganization Plan No. 2 of 1953; 3 CFR 1949-1953 Comp., p. 1024.

Subpart D—Delegations of Authority to Other General Officers and Agency Heads

2. Section 2.25 is added in subpart D to read as follows:

§ 2.25 Director, Hazardous Materials Management Group.

(a) The following delegations of authority are made by the Secretary of Agriculture to the Director, Hazardous Materials Management Group.

(1) Serve as Executive Director of the USDA Hazardous Materials Policy Council.

(2) Represent USDA is consulting or working with the Environmental Protection Agency (EPA), the Council on Environmental Quality, the Domestic Policy Council, and others to develop policies relating to hazardous materials management and Federal facilities compliance.

(3) Monitor, review, evaluate, and oversee hazardous materials management program activities and compliance Department-wide.

(4) Monitor, review, evaluate, and oversee USDA agency expenditures for hazardous materials management program accomplishments.

(5) Coordinate for the USDA Hazardous Materials Policy Council the presentation of the USDA Hazardous Waste Management appropriation budget request to the Office of Management and Budget (OMB) and Congress.

(6) Prepare for the USDA Hazardous Materials Policy Council the hazardous materials management program budget and accomplishment reports to Congress, OMB, and EPA and take a lead role in the preparation of replies to Congressional injuries.

(7) Represent USDA on the National Response Team on hazardous spills and oil spills pursuant to the Comprehensive Environmental Response, Compensation, and Liability Act of 1980, as amended (42 U.S.C. 9601, et seq.); the Clean Water Act, as amended (33 U.S.C. 1251, et seq.); Oil Pollution Act, as amended (33 U.S.C. 2701, et seq.); Executive Order 12580, 3 CFR, 1987 Comp., p. 193; Executive Order 12777, 3 CFR, 1991 Comp., p. 351, and the National Contingency Plan, 40 CFR Part 300.

(8) Approve disbursements from the New World Mine Response and Restoration Account, approve the New World Mine Response and Restoration Plan, and make quarterly reports to Congress under Sections 502(d) and (f) of Title V of the Department of the Interior and Related Agencies Appropriations Act of 1998, Public Law 105-83.

(9) Provide program leadership and oversight for USDA compliance with applicable pollution control laws and executive orders, including Executive Order 13148, Greening of the Government Through Leadership in Environmental Management.

(10) Ensure that the Hazardous Materials Management Program Department-wide is accomplished with regard to, and in compliance with, Executive Order 12898, Federal Actions to Address Environmental Justice in Minority Populations and low-Income Populations.

(11) Take such action as may be necessary, with the affected agency head and with the concurrence of the General Counsel, including issuance of administrative orders and agreements with any person to perform any response action under sections 106(a) and 122 (except subsection (b)(1)) of the Comprehensive Environmental Response, Compensation, and Liability Act of 1980, as amended (42 U.S.C. 9606(a), 9622), pursuant to sections 4(c)(3) and 4(d)(3) of Executive Order 12580, as amended by Executive Order 13016.

(12) Receive administrative support from the Assistant Secretary for Administration.

(b) [Reserved]

Dated: December 14, 2000.
Dan Glickman,
Secretary of Agriculture.

[FR Doc. 00-32405 Filed 12-28-00; 8:45 am]

BILLING CODE 3410-01-M